ENVIRONMENTAL PROTECTION AGENCY

[FRL-9943-37-Region 1]

Proposed Cercla Administrative Cost Recovery Settlement: Former Athol Rod and Gun Club Superfund Site, Athol, Massachusetts

AGENCY: Environmental Protection Agency (EPA).

ACTION: Notice of proposed settlement; request for public comments.

SUMMARY: Notice is hereby given of a proposed administrative cost settlement for recovery of response costs concerning the Former Athol Rod and Gun Club Superfund Site, located in Athol, Worcester County, Massachusetts with the Settling Party the Town of Athol. The proposed settlement requires the Settling Party to pay the Environmental Protection Agency (EPA) $275,000, plus interest, to the Hazardous Substance Superfund to settle EPA's past response costs, which currently amount to $3,434,307.47. In exchange, EPA will provide the Settling Party with a covenant not to sue for past costs. The settlement has been approved by the Environmental and Natural Resources Division of the United States Department of Justice. For 30 days following the date of publication of this notice, the Agency will receive written comments relating to the settlement for recovery of response costs. The Agency will consider all comments received and may modify or withdraw its consent to this cost recovery settlement if comments received disclose facts or considerations which indicate that the settlement is inappropriate, improper, or inadequate. The Agency's response to any comments received will be available for public inspection at the Athol Public Library, 568 Main Street, Athol, MA 01331 and at the Environmental Protection Agency—Region I, 5 Post Office Square, Suite 100, Boston, MA 02109-3912.

DATES: Comments must be submitted by April 4, 2016.

ADDRESSES: Comments should be addressed to Peter DeCambre, Enforcement Counsel, U.S. Environmental Protection Agency, 5 Post Office Square, Suite 100 (OES04-2), Boston, MA 02109-3912 (Telephone No. 617-918-1890) and should reference the Former Athol Rod and Gun Club Site, U.S. EPA Docket No: 01-2016-0003.

FOR FURTHER INFORMATION CONTACT: A copy of the proposed settlement may be obtained from Stacy Greendlinger, Office of Site Remediation and Restoration, U.S. Environmental Protection Agency, Region I, 5 Post Office Square, Suite 100 (OSRR02-2), Boston, MA 02109-3912, (617) 918-1403; greendlinger.stacy@epa.gov. Technical questions can also be directed to Stacy Greendlinger. For legal questions, Peter DeCambre, Office of Environmental Stewardship, U.S. Environmental Protection Agency, Region I, 5 Post Office Square, Suite 100 (OES04-3), Boston, MA 02109-3912, (617) 918-1890; decambre.peter@epa.gov.

SUPPLEMENTARY INFORMATION: This proposed administrative settlement for recovery of past response costs concerning the Former Athol Rod and Gun Club Superfund Site, located in Athol, Worcester County, Massachusetts is made in accordance with Section 122(h)(l) of the Comprehensive Environmental Response, Compensation, and Liability Act (CERCLA). EPA covenants not to sue or take administrative action against the Settling Party, the Town of Athol, pursuant to Section 107(a) of CERCLA, 42 U.S.C. 9607(a), for Past Response Costs. In exchange, the Settling Party agrees to pay EPA $275,000, plus interest running from the effective date of the Settlement Agreement through the date of payment. The Town will pay $100,000 thirty days after the effective date of the Settlement Agreement, and $87,500 a year later, and a final $87,500 a year plus interest for each installment. For 30 days following the date of publication of this notice, the Agency will receive written comments relating to the settlement for recovery of response costs.

Dated: February 1, 2016.
Bryan Olson,
Director, Office of Site Remediation and Restoration.

[FR Doc. 2016-04903 Filed 3-3-16; 8:45 am]

BILLING CODE 6560-50-P